DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending December 31, 2014. For purposes of this listing, long-term residents, as defined in section 877(e)(2), are treated as if they were citizens of the United States who lost citizenship.

Last name | First name | Middle name/Initials
ABBASSY-EJIMADU | MONICA | BARBARA
ABEL | ANDREW | CRAIG
ACIERNO | MATTHEW | ROBERT
AL HAMIDI | BASIM
ALLISON | MILES | CLIFFORD
ALLRED | TRENT | DREW
ALMONACID | MARIA | GABRIELA
AL-SABAH | LULUA | MUBARAK
ALZAMIL | ABDULLA | HAMAD
AL-ZAMIL | SAQAR | AHMED
AMBROSE | JONATHAN | WILLIAM
AMLAND | STANLEY
ANDEREGG | RUBEN | ERNST
ANDRES | MELANIE | CARLOTA
ANG | CLARA | LING JIA
ANGEHRN | DAVID | GEORGE
ANGOLD | CARI | LYNN NEE TINDALE
ARBUCK | BARBARA | ZITA
ARCHER | AMELIA | STEPHANIE
ARIAS | MAKELIN
ARNEODAU | RENE | PHILIPPE J.
ARNOLD | COLLEEN | MARIE
ARORA | RISHI | RAJ
ARTHO | OLIVIER | MARTIN
ASH | BENJAMIN | JEREMY
ATKINSON | GREGORY | ORLAND
AVEN | TERRY | LEE
AWKAL | DEBORAH | ANN LOUISE
BACHOFEN VON ECHT | CHRISTOPHER | JOHN
BACHTOLD | ALFRED | RICHARD
BAEK | JOSHUA
BAENZIGER | JOAN | KOKOLETSOS
BAERG | BRIAN | LAVERNE
BAERG | LYNDON | COREY
BAGDASARIANZ | PHILIP | STEPHEN
BAILEY | DIANE | MARIE
BAKER | DIANE | ELIZABETH
BAKHSHI | ARUN | KUMAR
BAKSHI | NICOLE | YASMINE
BANCEL | SUZANNE | LOUISE
BANCROFT | ANTOINETTE | VICTORIA
BAO | BIFANG
BARDEWYK | CATALINA
BARFORD | HANS | PETER TANG
BARKHURST | NEAL | EUGENE
BARNETT | MILLIE | JO
BARRETT | COLIN | EDWARD FRANK
BARRETT | FRANK | ELWIN
BATES | YANA | MARJORIE
BELANGER | RICHARD | JOSEPH
BENEDICT | RAY | ANN
BENNAHMIAS | FRANCOIS-HENRI
BERG | LARS | C.N.
BERKEL | MARY | JANE
BESTLAND | SARAH | MARIE
BETZ | PETER | WILLIAM
BEYNON | JUNE | DEBORAH
BIBBY | ANETA | MARIE
BIDDULPH | KEITH | ALEXANDER
BIDDULPH | NANCY | MATTEO
BIETENHADER | JEAN-LUC
BIGHI | EDUARDO
BILAND | FABIAN
BILLER | SUZANNE | MARIE
BIRCH | CHRISTOPHER | PHILIP
BIRCH | ROBERTA | ANNE
BIRDSELL | DALE | CAMPBELL
BISCHOFF-JUBIN | ANNA | REJANE
BLANCKAERT | JESSICA | LYNNE
BLAQUIER | MARIA | MARTA TAQUINI
BLOMDAL | JUDITH | MARIE
BOBROWICZ | JOHN | D.
BODTKER | CHRISTOPHER | SEJERSTED
BOEGLI | NADIA | CLAUDINE
BOELS | ANNE | DOMINIQUE
BOEVE | MICHEL | PAUL
BOIVIN | ELIZABETH
BOND | TRACY | ARTHUR
BONHAM | ELIZABETH | DUNCAN
BONNARD | LESLIE | ANNE
BONUGLI | RICHARD | JOHN
BONVIE | PHILIP
BORBE | KNUT | HORST
BORSCHBERG | ELA
BORSCHBERG | JASMINE
BORSCHBERG | PETER
BOSWELL | WILLIAM | JAMES
BOYD | MARVIN | ALAN
BOYLE | JOHN | JOSEPH
BRACKE | INGRID
BRANCH | NATHAN | SCOTT
BRANCIER | NATASHA | DEVI JAGAN
BRANDES | JILL | LESLIE
BRANDESTINI | VESNA | CHRISTINA
BREADEN | EMILY
BRENNER | AIMEI | ZHANG
BRIDGES | JAMES | THEODORE
BRITT | MARK | LESLIE
BROUGHALL | PETER | TEMPLIN
BROVIG | DEA | MONICA
BROWNE | ELIZABETH | JEANNE
BRUBACHER | ANNA | MARY
BRUN | CARINA | RUBI
BRYGIDYR | WILLA | ISABEL
BUDOVSKY | ARTHUR
BUECHLER | NEIL | JOSEPH
BUESS | AIDA | LUZ
BUFFLE | SOPHIE | VIRGINIA
BUHLER | MARIA
BURGAUER | ELINOR | ANN
BURGAUER | ERICA | MADELEINE
BUSH | JOYCE | ANNA
BUSSARD | DENNIS | JAMES
BUTLER | SALLY | ANN
CAHOON | CAROL | ANN
CAIRNS | WYNNE | ANNETTE
CALLENDER | SHERRILL | PEARSON
CAMERON-HAYES | YASMINE | EDITH
CAMPBELL | CHARLOTTE | S.
CAMPBELL | ERIKA | GOETZ
CAMPBELL | MARGARET | GREGORY PACSU
CAMPOS | ANTHONY | JOHN
CANNON | FORREST | WALLER
CAPOGNA | STELLA | LOUISE
CAREL | GENEVIEVE | EDMEE
CAREY | PETER | WRIGHT
CAREY | SUSAN | ELIZABETH PARR
CARON | DIANE | MARIE
CARR | LAURENT | ALAIN
CARRELL | MICHAEL | EDDIE
CARSON | ELIZABETH | ANN
CASE | MARY | LUELLA
CATES | STEPHEN | MICHAEL
CATLOW | HELEN | ANNE
CERQUONE | ANTHONY
CHAFFART | LYNONA | ANN
CHAI | BIAO
CHAN | DAVID | MOON HANG
CHAN | SHIRELY | SIU-YAN
CHANDRIS | NICKI | MYRTO
CHARLTON | LYNDA | JEAN
CHASE | JOHN | STANLEY
CHASE | MAUREEN | LOUISE
CHEN | DATONG
CHEN | KEN | AN
CHEN | TIANREN
CHEN | YUEZHEN
CHENG | ARTHUR | WILLIAM
CHENG | CALVIN | K.
CHENG | KATHERINE | YANTRUE
CHERNAVSKA | ARIADNA
CHEUNG | MABEL
CHIN | PETRINA | SZE-HUEY
CHOE | UN | SUK
CHOI | ANN | HYUN
CHOI | CLARA | IN YOUNG
CHONG | MATTHEW | JING-MING
CHONG | NEHEMIAH | SONG YAN
CHOU | ROBERT
CHOW | KIRSTY | HIU-CHING
CHOY | ORPHEUS | CHI FUNG
CHRENKO | RICHARD | MICHAEL
CHRIST | TORREY | RAND
CHUN | NANHEE | YANG
CHUNG | MIN | WING ALVIN
CLARK | BEATRICE | IDA
CLARK | EDWARD | EUGENE
CLARK | ILLYA | CELENA ARNET
CLARK | PATRICIA | GAIL
CLAY-CANN | MARY | KATHLEEN
CLEMENTS | KENNETH | MICHAEL
CLIMENHAGA | NATALIE | LEAH
COFFEY-LEWIS | GALINA
COONEY | DENIS | JOSEPH
COOPER | MATTEO
COOPER | ROBERT | WILLIAM
CORBETT | JEFFREY | SCOTT
CORONADO | STEPHANIE | ANNE
COTE | CHANTAL | CELINE SEPPI
COTTET | CLAUDINE | MICHELE
COULES | DENNIS | CHARLES
CRANCH | CAROLYN | MARIE
CRAWFORD | CHRISTOPHER
CRAWFORD | WILLIAM | LEE
CRITES | DONNA | RUTH
CRITES | JAMES | TIMOTHY
CROSS | BARBARA | LYNNE
CUCKA | JOHN | MICHAEL
CULP | CAROLYN | ANNE
CUMMINGS | OLGA | ANN
CUNNINGHAM | MELODY | ANN
DALLOZ | CELINE | SOPHIE
DALQUEN | MICHAEL | JOHN
DANYLUK | CARMEN | JOY
DAS | JENNIFER | LEA NEE DAVIS
DAVIS | CAROLYN | BECK
DAVIS | JOHN | ANDREW
DAVIS | TIMOTHY | EDWARD
DAWSON | KEVIN | DAVID THOMPSON
DE LAMARTER | PATRICK | ALAN
DE LISLE | SUSAN | BETH
DE MANGELAERE | RODRICK
DE MEUX | FREDERIC | MICHAEL DE LAAGE
DEALY | SANDRA | IRENE
DEANGELIS | HELLE | ANETTE WALLOE
DECLERCK | STEFAAN | ALEXANDER
DELBOS | ROBERT | FRANCIS
DEMCHICK | WILLIAM | STADTWALD
DEMERCHANT | TERRI-ANN | SMOOTZ
DEMETRIADES | ANNA | SEVASTI
DERKSEN | RHODA | MAY
DESMANGLES | GUY-ROBERT
D'ESTERRE | ANTHONY | JAVIER
DEUSTCH | ADI | AHARON
DEVERS | JESSICA | TINA
DIBA | CATHY
DIETZ | RYAN | CHRISTOPHER
DIMORA | PIA
DOAK | JACQUELINE | CLAIRE
DOBING | SELINA | RACHELLE
DOKANIA | AMAN | NEIL
DONALDSON | THOMAS | FREDERICK
D'OPPUERS | JEAN-CHARLES | P W B SNOY ET
DOSSIN | SYLVIE | FRANCOISE
DOULIS | SALLY
DREIER | VANESSA | ADELE TRUDY
DRENNAN | HENRY | VINCENT
DRENNAN | YOKO | PATRICIA
DRIFTMIER | DAVID | LLOYD
DUNBAR | STUART | GORDON
DUNHAM | FREDERIC | JACQUES
DUNNE | LUKE | ANTHONY
DURAN-CHABOT | CLAUDIA | ALEXANDRA
DUSHINSKI | JOHN | WILLIAM
DYCK | ROBERTA | SUSAN
EARLE | HEIDI | MAE
EARTHY | DARON | LINDA
ECHLIN | JOHANNA
ECTOR | DONALD | LANE
EGLI | CAMILLA
EICHELMANN | ANDREA | PETRA
EIFERT | JANET | JUDITH
EILER | ANNE | MARIE
EILERTSEN | KRISTEN | LORRAINE SMITH
EISENSTADT | BETTY
ELLIS | MEAGHAN | ALENA
ELLISON | DEBORAH | ANN
ELSTON | CAROLINE | HENRIETTE
EMERSON | CLINTON | LOUIS
ENGLISH | JOE | DONALD
EPPS | MARIE | MARJORIE
ERB | HANS | ULRICH
ERVING | ROBERT | VICTOR
EVANS | VALERIE | GAYLE
EVANS | WILLIAM | NATHANIEL
EWING | WANINA
EYHOLZER | CHRISTIAN | HEINRICH
FABRO | VIRGINIA | ELEANOR
FAIRCLOUGH | DIANA
FALKENBERG | LORI | ELLEN
FALKENBERG-WALSH | LORA
FANELLA | SERGIO | THOMAS
FANG | HUI | WEN
FANTONI | GEORGINA | HELEN DRUMMOND
FASANO | JORDANA | CHRISTINE
FELDMEYER | LYNN | JOYCE
FENTON | SCOTT | FRANCIS
FERGUSON | CANDIS | (NEE NAIM-BROWN)
FERNANDEZ | SANDRA | ATINUKE OLUFUNLOLA
FERRAN | ELENA
FERRARA | CHRISTINE | LISA
FERRIS | EMILY | ARBUTUS
FETT | LAURA | EUGENIE JAEL
FIETZ | TARA | RHIANNON DAWN
FILLET | MARC | PAUL
FINN | JAMES | PAUL
FISCHER | BENJAMIN | WERNER
FISCHER | NICOLE | MICHELLE
FISHER | PETER | PAUL
FITZPATRICK | RUSSELL | TAYLOR
FLANAGAN | MAUREEN
FLEMING | REBECCA | ANN
FLETCHER | EWAN | JAMES
FLOWERS | THOMAS | JAMES
FONTANA | COLETTE | ROSALIE
FORD | LENA | MINNIE
FOSTER | CHARLES | WILLIAM
FOSTER | ELLEN | ROGERS
FRANCKEN | ADRIAAN | JAN BAPTIST GABRIEL
FRANK III | ARTHUR | WILLIAM
FRANKEL | SUZIE
FRENK | ETIENNE | PAUL
FRIEDLAND | ERIC | VICTOR
FRIEDLI | MICHAEL | BRIAN
FRIESEN | PAMELA | JEAN
FROSSARD | ANDREA | MARTINA
FROSTAD | RANDI | ADELEID
FUJISHIMA | JULIE | KEIKO
FUJISHIMA | MARY | YASUKO KITAGAWA
FUKASE | TOMOMI | ALICE
FUKUI | KEN
FULFORD | RAYMOND | EARL
GABRIEL | SOLANGE | INES
GALES | JOY | MARDEN BARBARA
GASSMANN | URS | MARKUS
GEBHARDT | ANDREAS | ALFRED
GEIGER | CHRISTIAN | ALEXANDER
GERARD | LEIGH | ILSE
GERSMANN | FRANK
GHANDOUR | HICHAM | OMAR
GIENGER | EUGENE | ANDREW
GILMOUR | BRIDGET | AILEEN
GILMOUR | IAN | JAMES
GILMOUR | MARY | AILEEN
GIRARD | PHYLLIS | DIANE
GISELBRECHT | STEPHAN | KARL
GODDARD | LINDA | NIXON
GOETZ | FRANCES | BARBARA
GONZALEZ | LOUISA | SOMERMEYER
GONZALEZ | MATHIAS
GORE | ROBERT | EDGAR
GORTCHACOW | TATIANA
GOYZUETA | LUIS | HUMBERTO
GRACE | CHRISTOPHER
GRAETZEL | AIMIE-LYNN
GRAETZEL | LILIANE | CAROLINE
GRAHAM-KOPP | LANCELOT | WILLIAM
GRANATO | DAVID | SAM
GRANDITS | JOSEF | JULIUS
GRAYKOWSKI | ELLEN | SUZANNE
GREAVES | JANE | BRENNAN
GREEN | NICOLE | KIMBERLY
GREENFIELD | CONCETTA | CARESTIA
GRZYWNA-GROBLEWSKA | EVA | MARIA
GUAN | HUIMEI
GUIDA | LINDA | MARIE
GUILLAUME | CATHERINE | MARGUERITE
GUI-QIN | ZHANG
GULER-CHANNAPRAGADA | LEELA | KIRAN
GURD | KATE | VAN DER GIESSEN
HADAR | RON
HAGEL | BARBARA | ANN
HALADNER | SAMANTHA | LINDSAY
HALL | LARRY | E.
HALLER | GEORGE
HAMBERG | BARRY | ALLAN
HAMMANN | HYE | OK SALLY
HANSEN | ARLENE | MARIE
HANSON | SOPHIE-CHARLOTTE | SUZANNE
HANVEY | MICHAEL | ROBERT
HARDIE | CRAIG | ALLEN
HARRIS | AARON | CALE
HARRIS | JOE | JARRELL
HARRIS | JONATHAN | HOWE
HARRIS | ROBERTA | DOURNEY
HARRIS | STEPHEN | WAYNE
HARROFF | MARGARET | ANN
HARTMAN | THOMAS | STEPHEN
HASLER | OLIVER | BERNARD
HAUSER | DOROTHY | ELIZABETH
HAVARD | ROBIN | ADELE
HAYES AMSTUTZ | CATHY | CAROL
HEAH | KIAN | HUAT ALVIN
HEAP | SUSAN | JENNIFER NEESTITT
HECKMAN | BERNARDINE | LEE
HEEB | FELIX
HEFEL | CURTIS | ADRIAN WALTER
HEFEL | CYNTHIA | MARIE
HEFERMEHL | DIMITRI | MARK
HELLER | LYNNE
HEMPHILL | RALPH
HENDERSON | JULIANNE | MARIE
HENG | WILMA | LING XUE
HENRIQUEZ | CAROLINA | R.
HEPING | CHENG
HERLAND | FREDERIKA | ANN
HERMAN | ILENE | L.
HERNANDEZ | RYAN | AARON
HERR | RICHARD | ALLEN
HILAL | FREDERIC
HILDEBRAND | SHERRY | ANN
HINSHAW | DEENA | LYNN
HIRSCHBACH | STEVE | MARTIN
HO | ANGELA
HO | SERENA | MAY YIN
HOCKIN | AMELIA | LEIGH
HOESSLY | GIAN-CHRISTOPHER | ANTON
HOFFMAN | LANE | FLORENCE
HOHL | MARCEL | WALTER
HOLDEREGGER | DENISE | ELISABETH
HOLLAND | PATRICK | FRANCIS
HOLLIN | LINDA | LOUISE
HOLLINGSWORTH | JASON | TROY
HOLMAN | TAMARA | LEE
HONEYMAN | CORY | HILL
HONG | MARIE | EIKO
HONG | YOUNGGI
HOTTINGER | DOLORES | YVONNE MARIE
HOUGH | JOHN | DOUGLAS
HOUGH | KATHY | ANN
HOUGNON | NATALIE | ANN
HOUGNON | ROBERT
HOWARD | LINDSAY | DIANE
HOWE | BARBARA | LOCKE
HOWES | LYNDA | MARIE
HOWSE | JOSEPH | CHARLES
HSIAO | YU | JING
HU | BING | YI
HUANG | BERTINA
HUBER | MANUEL | CHRISTOPH
HUBER | MARKUS | DANIEL
HUESSER | MICHAEL
HULTSLANDER | PAUL | ROWLAND
HUNTER | KIM | DIANA
HUTCHINGS | JULIA
HYNES | CECELIA | HILDA
ICHIKAWA | ERI
IGLESIAS DE SOUSA | PAULO | RUI
ILISEVIC | NIKOLINA | FUDURIC
IMAI | YOHEI | DAVID
INGALIS | KARYN | ELENA
INGLIS | LAURA | KATHRYN
IRIARTE | CESAR | AUGUSTO
ISBESTER | ANDREW | DAVID
ISHIDA | TOMONORI
ISON | SCOTT | MARTIN
JACKSON | JOHN-PAUL | CHRISTOPHER
JAIN | SHAUNA | ASHOK NEE KOTECHA
JANES | PRISCILLA
JANETT | KURT | JAKOB
JANZEN | CORRINE | CLARICE
JEKER | KARL | FRANCIS
JEONG | YIWON
JEONG | YUNG | JU
JOHNSON | ANN | VAN CURAN
JONES | CAROL | JANICE
JONES | CURT | THOMAS
JULIHN | BRADFORD | BENGT
KAMAYANA | ODHITA | ALEXIS SANDIAWAN
KANEKO | DAINA
KASPAR | ADRIAN | GILBERT
KASPAR VON HOCHENEGG | FRIEDRICH | HELMUND
KATZ | GREGORY | ALLEN TOMIYE
KAVLIE | HOGNE
KAYSER | LUDWIG | GEORGE
KELLOGG PSAROFF | DIANE
KEMBLE | MICHAEL | JOHN
KERN | ADELINE | GERTRUD
KIDD | MARGARET | PELL
KILISTOFF | SHARON | KAY
KIM | ANDREW | SEONGMIN
KIM | DONG | PYUNG EUGENE
KIM | ETHAN | JISANG
KIM | EUI | KON
KIM | GRACE | M.
KIM | HEENAM | STANLEY
KIM | MI | KYOUNG
KIM | NELSON | Y.
KIM | OK | KYONG
KIM | SANG | HI
KIM | SUNG | JUNG
KIM | SUNG | LIM
KIRCHNER | EDITH | ANN
KIRSTEIN | MARK | HENRY
KLASSEN | BRENT | DAVID
KLEIN | HANNAH | LEONA
KNUESEL | PATRICK | ROLF
KOEPP | HANS | EBERHARD
KOKKONIS | SONIA
KOLLER | THOMAS | JOHN
KOLSHUS | HANS | HALVORSON
KONECKI | ANDREW | ANTHONY
KONECKI | ROSEMARY
KONG | CHONG
KONG | CHRISTOPHER | CHUNG HOA
KONG | HIN | ON
KONUNTAKIET | TAYA
KOO | SOHEE
KOO | SOYEUN
KOOB | AARON | JOSEPH
KORDITSCH | ANNA
KOTECHA | SUHAS | ASHOL
KRAEMER | JOHANNA | VIRGINIA
KRAENZLIN | EVELYNE | MAJA
KRANS | INES | GERLINDE
KRAUSE | STEPHANIE | ALEXANDRA
KREUTTER | BARBARA | ANNE
KRYZANOWSKI | JULIE | ANIELA
KUANG | MEI | RENG
KULCHISKY | GRACE | IRENE
KULCSAR | BRANDY | LATITIA
KULCSAR | KEELEY | PAIGE
KULYK | JEFFREY | MICHAEL
KUPFER | JANE | BARBARA
LABASSE | FABIENNE | ALBERTE
LAEDERMANN | CEDRIC | JAMES
LAGHZAOUI | SOUAD | AZIZAH
LAGUE | KENNETH | DENYS
LAM | MARCUS | SHENGKAI
LAMBROS | NIKI
LAMELA | VIRGINIA
LANDOLI | VICKY | LOUISE
LANZA | ROBERT
LAPI | KATHERINE | MICHELLI
LAPOSSE | MARIO | ROBERTO
LARIBY | ALEXANDRA | BEATE
LARKIN | WILLIAM | MARK
LARKINS | BRENDAN | ALEXANDER DENT
LARNEY | PETER
LARSON | KATRINA | NANCY
LARSON | TODD | MICHAEL
LAVANCHY | CYRIL | DANIEL
LEBER | VINCENT | DAVID
LEE | DANIEL
LEE | DANIEL
LEE | DAVID | CHING-WEI
LEE | DONNY | DOO HYUN
LEE | HONG-NEE | CONNIE
LEE | JAE | HUK
LEE | KYUNG | WON
LEE | MICHAEL | EONSANG
LEE | TAEHOHN
LEFKOWICH | AYLA | NITZA
LEFKOWICH | DAVID | MICHAEL
LEFKOWICH | MAYA | ELISHA
LEGASSICKE | NANCY | LYNN
LEITCH | MAGAN | ELIZABETH
LEITER | JOSEF | CONSTANTIN
LENO | NATHAN | DAVID GARTH
LESSER | SUSAN | RAYMONDE
LETTNER | CAROLYN | ANNE
LEWITZKY | SHIRLEY | ANN
LI | JIM | JUN
LIAN-DAUDE-LAGRAVE | ANITA | MADELEINE
LIEM | SUSAN | SIOE TJING
LIH | YOUNGJUN
LIMPENS | NOELLE | MICHELLE MARY VINCIANE
LINDENBERG | RUY | LASCHAN
LINDHOLM | KRISTI | LYNN
LIPCHAK | IAN | ANDREW
LISMONT | ELISABETH | ELSA
LISMONT | PIETER | RENE
LISMONT | YVETTE | ANNETTE GAGNIER
LIU | HAONAN
LIU | HONG
LIVINGSTON | YVONNE | FRIEDA
LO | CHRISTINE | SHIH-TZE
LOEWEN | GLADYS | ANNE
LOEWENTHAL | PAUL-JOHN
LOOSLI | TAMARA | RACHEL
LOPEZ | JIM
LOSEE | RONALD | JONATHAN
LOUIS | SEVERINE | JACQUI
LOVELL | BERNARD
LOW | GARY | STEVEN
LOW | WENDIE | haawkes
LOWDERMILK | DAVID | JAMES
LUCIA | DAWN | RENE
LUE | SUZANEI | LYNNE
LUKOFF | FREDERICK | LLOYD
LUNDE | KRISTIN | SCHEEL
LUSCHER | ERIC | WERNER
LUSCHER` | MAYA | CHARLOTTE
LUV | ANTON | THE
LYON | MARTHA | ELIZABETH
MA | BRIAN | HING BONG
MA | DORIS
MACDONALD | AMY | ELINBORG
MACKLIN | CHRISTOPHER | CHARLES
MACLEAN | ALEXANDER | KENNETH ZOIA
MACLEAN | SHANNON | CHRISTINE ZOIA
MACLEOD | DONALD | RICHARD
MACLEOD | HEATHER | JO
MAGNELLI | HENRY | MICHAEL
MAH | SHIRLING | GRACE
MAHMOOD | KHALID
MAHMOOD | NAILA | WAHEED
MALEKI | AIYANA | JOY
MALLOCH | BARRIE | A.
MALLOCH | BARRIE | ALLENE
MANTHOS | SOPHIA | THETIS
MAR | STACEY | VELEDA
MARBOT | CHRISTIAN
MARCAKIS | KOSTA
MARCAKIS | PANAGIOTA
MARCUS | SUSAN | CAROL
MARISCAL | CARMEN | MARIA
MARQUARD | PHILIPP | ALEXANDER
MARSHALL | VERONIEK | ELISABETH
MARTENS | MARY | HALL
MARTENS | RONALD | DEAN
MARX | DANIEL | JEAN PIERRE
MASON | KAREN | LINDA
MASON, III | JAMES | HOWARD
MATKIN | EILEEN | FAY
MATTELAER | SABINE | YVONNE MARIE
MAURY III | THOMAS | PETER
MAUTNER | IRA | NATHAN
MAXWELL | DANIEL | PAUL
MAXWELL | IRIS | EMILY NEE FITZROY
MAY | LILY | SUSAN
MAYERSON | MARK | ALAN
MAZUREK | WILLIAM | LYMAN
MC LAUGHLIN | MARION | CLAIRE
MCALLISTER | JOHN | EDMUND
MCBRIDE | JOANNA | GERTRUDE
MCCLOUD-BONDOC | LINDA-LOUISE
MCCUAIG | CATHERINE | CAMERON
MCCULLOUGH | WILFRED | BRUCE
MCCUSKER | BERNADETTE
MCDONELL | ROBERT | P.
MCGILVRAY | ROBERT | DOUGLAS
MCGOWN TANGERAAS | NANCY
MCINNIS | JOYCE | C.
MCKAY | ANDREA | LYNN
MCKUSICK | ALICE | HOPE
MCLAFFERTY | DARLENE | ELAINE
MCLAFFERTY III | MARCUS | LAWRENCE
MCLEOD | JOHANNA | KATHLEEN
MCNAMEE | WILLIAM | J.
MCQUAY | SHELANN | JENAY
MEDLINGER | CHARLES | MICHAEL
MEEHAN | LINDA | KAE KUCHENBACH
MEEHAN III | SEAN | FRANCIS
MEIER | PATRICK | STEFAN
MEIER-ABT | FABIENNE | CHRISTINE
MERCER | BETH | ELLEN
MERCER | DAVID | GARTH
METAXAS | SPYRO | DIMITRIOS
MEUTZNER | MARGARET | HELEN
MICALI | LUCIANO
MIKI | DAIKI
MILAT | JENNIFER | ELAINE
MILES | SARAH
MILLAR | ELLIE | TSAI
MILLER | ASHLEY | VICTORIA
MILLER | JESSE | REAY
MILLER | NANCY | KAY
MILLS | KENNETH | EDWARD
MILNE | WILLIAM | HERMAN
MINDT | STEFAN | PATRICK
MINIELLY | GEOFFREY | PEARSON
MIYAKI | ADRIANE | MELLO
MOLINE JR. | ALVIN | JOEL
MONAHAN | SARAH | KATHLEEN
MONTGOMERY | NATHANIEL | MARK
MORGENROTH | JACQUELINE | SIMONE
MORGENTHALER | MARK | CHRISTIAN
MORPHEW | GEOFFREY | THOMAS
MORRIS | DENNIS
MORSE | MOLLY
MOSER | ROLAND | P.
MOSKOWITZ | REBECCA
MUEHLEMATTER | KATHRIN | PEGGY
MUELLER | COLLETTE | RENEE
MUKANTABANA | MATHILDE
MULANI | AKASH | JACKY
MULDAL | CAROL | ANN
MULDER | VINCENT | ALLIAN
MULLER | ANNELISE
MULLER | AUGUST | RUDOLPH
MULLER | GLENN
MULLIGAN | JAMES | E.
MULLIGAN | JAMES | EDWARD
MULLIGAN | MARY | F.
MULLIGAN | MARY | FRANCES
MUNRO | KAREN | EDNA
MURPHY | THOMAS | GERALD BERNARD
MURRAY | THERESE | MARIE
MUSSELMAN (NEE:MELTON) | ZELDA | DEAN
MUTZENBERG | MARTIN | ALFRED
MUXO | EDUARD | JOSEPH
MYWATER | JAMES | MARTIN
NADIR | LAURIE
NAGAOKA | MISA | HELEN
NEGISHI | AKIKO
NEIMAN | JOSEPH | JAMES
NELSON | ALEXANDER | LEE
NELSON | KRISTIN | MARIE
NEUENSCHWANDER | MIRCO
NEWMAN | BETH | MELANIE
NEWSON | RONALD | KENT
NG | MINNA
NGUYEN | NHAT | PHONG YOSHINARI
NGUYEN | NHAT-TIEN | HISAZUMI
NICOLAI | RANDAL | PIETER
NIELSEN | ABIGAIL
NIENHAUS GENNANT SUR | KIMBERLY
NIETO | ANNE
NIETO | JOHN | ANTONY
NILL | GEORGE | M.
NIXON | PATRICIA | LYNN
NO | DARVYN | DALE
NOBEN | ASHLEY | LOUISE
NOBLE | CATHERINE | ELIZABETH
NOBLE | DAVID | CRAIG
NORDBY | ARNE | PETER
NOTZELMAN | GREGORY | JOHN
NUERNBERGER-WALLE | MARLENA | JOY
NUGENT | KEELY | JEAN
NUSSBERGER | SUSANNE | EVE
ODONNELL JR | JOHN
OHMAE | JEANNETTE | JOCELYN
OHMAE | SOHKI
OLDFIELD | PETER | KING
OLDSTED | ANTHONY | ALLAN
OLFERT | LINDA | MARIE
OLIVER | JANET | MARIE
OPRAVIL | SIMONE | MARISA
ORCHARD | DAVID | MICHAEL
ORD | JARED | JONATHAN
ORHAUG | ULF
OSWALD | GUIDO | A.
OTTERSTAD | ALF | BORGE
OWENS | JENNIFER | KATHLEEN
OZAWA | NORIHIKO | ANTHONY
PAGANI-BURT | ANNA | ELIESE
PAHL | ALISON | KATE WIGHT
PAHL | EZIAH | JACOB
PANKRATZ | MARILYN | AUDREY
PAPAGEORGIOU | SOTIRIOS | GEORGE
PARK | CHOUL | GOO
PARK | HAYNE | CHO
PARK | JULIA
PARKER | BRENT | ALLEN
PARTRIDGE | DORIS | ELLI
PARTRIDGE | LISA | M.
PASCHE | VIVIANE | MATHILDE
PATEL | LATA | VISPI
PATHIPVANICH | ANUTE
PATTON | JAMES | THOMAS
PAYNE | DUSTIN | DELBERT
PAYNE | JESSICA | JANE
PEIFER | WILLIAM | WAYNE
PENG | AUDREY | SHAW-CHUANG
PENTEGOV | ALEX
PERALES | DAVID
PERBOS | MARC | LUIGI
PEREZ GIANNOPOULOS | TAMA | SEQUOIA
PETRIE | SUSAN | M.
PETRUZZELLO | STEVEN | ROGER
PFAFFLI | CAECILIA | C.
PHARAMOND | ANTOINE | CHARLES
PHELPS | JASON | FRANCOIS
PHILLIPS | FRANCOISE | MARIE MONTAUD
PICCININ | MARY | MARGARET
PIND | ADRIENNE | VERONICA
PINERO | CHUNG | NIM
PIOVATY | KAREN | GALE
PITFIELD | WARD | CHIPMAN
PLOWDEN | AMANDA | NINA THERESE CHICHELE
PLUCKER | JOHN | MARNIN
PLUTH | FERN | ANN
POE | SPENCER | PATRICK
POLY-MOOREFIELD | CHRISTINA | ELIZABETH
POOLER | PRISCILLA | LORING
POPESCU | ANNELLIESSE | VALERIA
PORTER | BENSON | LEE
POWELL | KENNETH | JAMES
POWELL | WYLEY | LOVELACE
PRASSER | HELEN
PRATT | RANDOLPH | MURRAY
PREFONTAINE | JULIE | LUCIE
PRESTEL | CORNELIA | DOLAN
PRICE | HEATHER | ANN
PRICE | JANET | LYNN
PROUD | ROBERT | JOHN
PURVIS | DANA | ELY
QIAN | QIAN
QUADERER | ROGER | STUART
QUAIL | JOHN | WILSON
RA | DANIEL | YONGJAE
RACHALS | RICHARD | HUBBARD
RAE | JANICE | MARIE
RAE | MARY | CHRISTINE
RAGATZ | ANDREW | GALECKI
RAMBO | PETER
RASMUSSEN | NILS | HENRY WILLIAMS
READ | CYNTHIA | YONKO
REIFSNYDER | ASTRID | ALIX MARIE
REMICK | RONALD | ALLAN
REVES | JOHN | ALEXANDER
REYES-MILFORD | STEFFIE | SHAY
RHODES | CAREY | ELIZABETH NEE GORDON
RICHTER | JANA
RIEMENS | CHRISTIAAN
RINCOVER | ARNOLD
RIOUST DE LARGENTAYE | ARMAND | MARIE LOUIS
ROBERTS | GLEN | LEE
ROBERTSON | WILLIAM | DOUGLAS
ROBINSON | TAMI | MARIE
ROBISON | NATALIE | MARIE
RODRIGUEZ | EUGENIO | SERAFIN
RODRIGUEZ | PABLO | ANTHONY
RODRIGUEZ | VICTOR
ROMANQUE | NICOLAS | JOSEPH
ROSE | NORMA | LYNNE
ROSE | PHILIP | MICHAEL
ROSENTHAL | ELISABETH | KRASNER
ROSS | SEAN | DAVID
ROSSAT | LOUISA | CLAIRE
ROSSI | PAOLA | ISABELLA
RUMBLE | STEPHEN | MATHEW
RUNGE | WENDY
RUSSI | KEVIN
RUSSO | GERARD | ALTON
RUTHLING | CARLETON | ROBERT
SABATUCCI | RANIERI | ROBERTO
SAMBROOK | HONOR | KATHLEEN
SANDERS | JULIANNE
SANDOZ | IDA | EMMY JEANNE
SANDOZ-HEYSE | PATRICIA | ELLEN
SANDRI | JOHN | PAUL
SARGISON | VIRGINIA | LEE
SATTVA | PARZIVAL
SAUSER | MELISSA | LYNNE
SAVARY | ESTELLE | FREDERIQUE
SAWATSKY | MARY | KATHLEEN
SCALLION | PATRICIA | LOUISE
SCHAAD | THOMAS | ANDRE
SCHAUFELBUHL | ANDRI
SCHENCK | MARK | ANDREW
SCHENKER | CHRISTINE | BARBARA
SCHERZ | MICHAEL | WIARD
SCHICKER | MONIKA | MARIA
SCHIESS | JACQUES | PHILIPPE
SCHIESS | MARILYN | CARMEN
SCHMALZRIED | SUSANNE
SCHMELZBACH | CEDRIC
SCHMID | TANYA | ELIZABETH
SCHMIDT | BEVAN | HUGH
SCHMIDT | CARL | LYMAN
SCHMITT | ANDREW | FORBES
SCHMOCKER | CATHERINE | ROSEMARIE
SCHNEIDER | JOHANNA
SCHNORF | KEVIN | GEORGE
SCHNORF | VIRGINIA | ANN KATHLEEN
SCHREIBER | ANDREA | CLAUDIA
SCHUDEL | MICHAEL | CHARLES
SCHWARTZ | BARBARA | ARLENE
SCHWYZER | BRIAN | KEITH
SCOLLAR | PETER | MAXIM
SCRIMGEOUR | ALEXANDER
SEALS | CLAIRE | ELIZABETH
SEAVER | JEFFREY | CHARLES
SEILER | EVELINE | ERIKA
SELLEM | CHRISTINE | ORTMAN
SEMPOWSKI | IAN | PETER
SENDAGORTA | ELENA
SEPETOSKI | MARYA
SERVIZI | ERIC | JAMES
SETHI | SUJATA
SHAO | ZU | XIONG
SHEN | ZUEHUA
SHENG | PAO-HIS
SHEPPARD | SCOTT | RICHARD
SHERIDAN | KAREN | GERALDINE
SHERLOCK | TRACY | ELLEN
SHIH | PAUL | I-CHENG
SHIM | RONALD | MYUNGSUP
SHIN | STEPHEN | HYUNSANG
SHUCKETT | NICOLE
SHULTS | FOUNT | LE RON
SICK | ANDREW | GORDON
SIEDENBURG | JULES | RENALDO
SIEGENTHALER | FREDERIC | ANTOINE
SIME | KATHERINE | LOUISE
SIMES | DAVID | CHARD
SIMMEN | LEONARD
SIMON | JONATHAN | DEAN
SIMONSEN | DAVID
SIU | SALINA | S.
SIU | TOMMY | KWOK CHEUNG
SLY | CORINNE | CONNOR
SMART | CATHERINE | ELEANOR
SMESLAND | GRETHE
SMITH | ERIC | WHEELER
SMITH | JANET | LYNN
SMITH | KIMBERLY | DIANNE
SMITH | MICHELE | LOUISE
SMITH | WILLIAM | FREDERICK
SMITH | WILLIAM | JOHN LEE
SMITH II | LAWRENCE | WEBB
SMYTH | JOYCE | EDITH
SNG | JOSEPH | JIN HUI
SNOWDON | DYLAN | ROSS
SNOWDON | MEGHAN | ANN ELLIS
SO | ALVIN | BRIAN
SOLOMON | BRUCE | TUNNOCK
SOLSTRAND | MARIA | VICTORIA
SONG | YEONSOO
SOODSMA | RACHEL | MARGARET
SORG | ANDREW | PETER
SPENCE | HILDEGARD | JEAN
SPERA | ANDRE | WILLIAM
SPRING | PENNY | NOEL
STAGER | ANN | COLBY
STARK | DUDLEY | SCOTT
STASTNY | ROXANNE | BLAINE
STEBLER-HENGEL | BIRGIT | MARY
STEIGER | ROBERT | LAURENZ
STEINMETZ II | WILLIAM | RICHARD
STETTLER-LUGINBUHL | ELISABETH
STEVENSON | YVONNE | JEAN NEE HALSEY
STEWART | STEVEN | CRAIG
STONE | TINA | BONNIE
STOREN | OSCAR | FINN FRIEDRICH
STRAEHLE | CAROLYN | ANDREA
STROESSNER-RODRIGUEZ | SOLANGE | MARIA
STROHMEIER LUDER | PATIENCE | CAROLINE
STUERCHLER-KAISER | ALEXANDRA | MELANIE
SUABEDISSEN | ERIKA | ERNA
SUABEDISSEN | MARK | HENDRIK
SUAREZ | LILIA | INES
SULC | MARY | BETH
SUTCLIFFE | SUZANNE | KATHLEEN
SUTTON | SUSAN | LEIGH
SWAN | LAURA | CHRISTINE
SWANSON | HOWARD | ALLEN
SYRATCHEV | JENNIFER | JEAN
SZPIRGLAS | GINA
TAKAYANAGI | KEITA
TANG | JAMES | YIU CHI
TANSEY | SHARON | ANN
TAPPERT | FRANCES | LEE
TARKOWSKI | RICHARD | BONAVENTURE
TARR | NATALIE | ALEXANDRA
TAYLOR | JASON | WAYNE
TAYLOR | LORRAINE | YVONNE
TAYLOR | PAUL | ALLAN
TEO | PETER
TERPENNNING | GREG | ELDON
TERRIER-LUSCHER | BRIGITTE | MAYA
THEMIG | ERIC | JON
THEMISTOCLEOUS | MADELEINE
THERRIEN | KATHRYN | MARY
THNG | COEWAY | BOULDER
THOMAS | ANNA | YUEN WA
THOMAS | BARBARA
THONG | RAYMONG
THROCKMORTON | MARK | AUSTIN
TIMOTHY | JUNIOR | JACKIE TOMA
TOMCIK | MELISSANDE
TOUZELET | CHRISTOPHE | YVES
TOUZELET | DANA | DAHL
TRAVIS | JOHN | BROWN
TREILLE | MURIEL | LOUISE VERENA
TRIDON | JEAN-GABRIEL
TROGER | SYLVIANE | MATHILDE
TSENG | SHU | WEN
TURNER | REJANE | CORRINE
UPSHUR | JESSE | DAVID
URBAN | DAVID | EDWARD
URYU | TAKUMA
USSHER | ELLEN | DORIS
VAN DER WIND | ANNE ROSE
VAN VLIET | MAURY | GADDIS
VAN WULFFTEN PALTHE | YVONNE | MARIJKE HOLS
VAN YPERSELE DE STRIHOU | VINCIANE
VANCE | FIONA | NATALIE
VARETTO | ALEXANDER
VAUTIER | ELAINE
VEITH | HOLGER | WERNER
VEKRIS | DIMITRI | JAMES
VELOSA | MARIE | HELENE
VERBEEK | MARY | MAJKEN
VERNIE-EKBERG | ROSALINDE | COTY
VERSACE | HELGA
VERSTRAETE | ANNELI | MARY-GAY
VILLANUEVA | MEGAN
VIOLA | LUCIEN
VOITCHOVSKY | NATHALIE | CATHERINE
VON FELLENBERG | CARINE | SIMONE
VON HIPPEL | STEPHANIE | HERMINE HELEN
VONMOOS | PAULINE | MARGUERITE
VOS JR | EDWARD | ALFRED
WAGNER( ZARNIKAU) | MARY | JEAN
WALKER | DOUGLAS | MACARTHUR
WALLS | KEITH | GORDON
WALSH | SHELAGH | TABER
WANG | BINGLIAN
WANG | JANICE | S.Y.
WANG | JI | XIN
WANG | PO | SHEN
WARD | LAWRENCE | HERBERT
WARSHOW | KEITH | IAN
WASSERMAN | MORDECHAI
WAUGH | PHYLLIS | ELIZABETH
WEARMOUTH | CARLA | LORETTA
WEARMOUTH | SCOTT | ANDREW
WEBER | BARBARA | SUSAN
WECKER | LAKIN | CHRISTOPHER
WEE | ANN | HONGHUI
WEHREN-PERRET | SIMONE | THERESE
WEIBEL | LEONARD | JASON
WEIBLE | KENNETH | JAY
WEIGHELL | ELIZABETH | SUSAN
WEINSTEIN | JULIE | LYNNE
WEISER | ANN | LIGGETT
WEISS | ILAN | DAVID
WELSH | THOMAS | EDWARD
WENDOLOSKI | JOHN | CHESTER
WHEATLEY | MARIA
WHITE-JOUBERT | HEATHER
WHITFIELD | ERIC | D.
WHITFIELD | MICHELLE | RENEE
WHITMORE | KENNETH | MATTHEW
WIDMAN | DAVID | STEPHEN
WIDMER | MARIANNE
WIEBE | LINDSEY | ABRA
WIKSTROM | MARY | PENNEBAKER
WILLETTE | CHRISTINE | DOROTHY
WILLIAMS | ROYCE | DANIEL
WILLIAMS | SIOBHAN | KIRSTEN CAMPBELL
WILLIAMS | SUSAN | CLAIRE
WILLS | DONALD | VERNON WALDRON
WILSGARD | JACK | RICHARD
WILSGARD | JANIS | ANN
WILSGARD | JON | ROLF
WILSON | MORA
WINTERHALTER | CECILIA | MARIE FRANCESCA
WINZ | INGRID | VERNA
WITAYANGKURN | GEORGE
WOATICH | MICHAEL |
WONG | AARON | ELTON
WONG | ADRIANNA | LEANNE KOK CHI
WONG | DAMON | D.
WONG | KONG-KAT
WONG | KWOK | SING
WONG | MABEL | KATHERINE
WONG | WESLEY | WAI KIT JOHN
WOOD | ASHLEY | ELLEN
WU | GRACE | Y.
WU | LIXIN
WUNDERLI | MATTHIAS | DOUGLAS
WUNDERLI | MICHAEL | THORSTEN
XIAO | HONGTAO
XU | RUIMING
YADIGAROGLU | GEORGE
YAMADA | YOHEI
YAN | YU
YEON | YEONG | JU SHIN
YEUNG | MELVIN | TSE SHING
YEUNG | TOI | SHAN DIANE
YORSTON | KRISTEN | BETH
YOUNG-DEWITTE | KIMBERLY
YU LARSSON | BARBARA | PEI-LAN
YULE-TSINGAS | SALLI | KATHRYN
YUN | HEE | SUN
YUNG | CLAUDIA | NATALIE
YURIST | EUGENE | LOUIS
ZAPATA | MARCO
ZHANG | NAIGUANG
ZIEGLER | JESSICA | SADAR
ZIGLAR | STEVEN | ERSKINE
ZIMMERMAN | STEPHAN | THOMAS
ZIMMERMAN | SUSAN | MICHELLE
ZINKLAND-SELLES | LAURIE | PRISCILLA
ZOELLIN | JOHN | REINHARD
ZUGARO | FRANCESCO | LORENZO GALLI
ZWEIG | ILAN | MICHA
ZYSSET | STEFAN | MICHAEL

Dated: January 15, 2015.
Frances Fay,
Manager Team 103, Examinations Operations—Philadelphia Compliance Services.

[FR Doc. 2015-02850 Filed 2-10-15; 8:45 am]

BILLING CODE 4830-01-P